DEPARTMENT OF ENERGY

Office of Energy Efficiency and Renewable Energy

10 CFR Part 430

[Docket No. EERE-2007-BT-STD-0016]

RIN 1904-AB50

Energy Efficiency Program for Consumer Products: Public Meeting and Availability of the Framework Document for Fluorescent Lamp Ballasts

AGENCY: Office of Energy Efficiency and Renewable Energy, Department of Energy.

ACTION: Notice of public meeting and availability of the Framework Document.

SUMMARY: The Department of Energy (DOE) is initiating the rulemaking and data collection process to consider establishing amended energy conservation standards for certain fluorescent lamp ballasts and to consider whether energy conservation standards should apply to additional fluorescent lamp ballasts. Accordingly, DOE will hold an informal public meeting to discuss and receive comments on its planned analytical approach and issues it will address in this rulemaking proceeding. DOE welcomes written comments from the public on this rulemaking. To inform stakeholders and to facilitate this process, DOE has prepared a Framework Document which details the analytical approach and identifies several issues on which DOE is particularly interested in receiving comment. A copy of the Framework Document is available at: http://www.eere.energy.gov/buildings/appliance_standards/residential/fluorescent_lamp_ballasts.html. In a separate rulemaking proceeding, DOE plans to review and to consider amendments to the test procedures used for determining the performance of fluorescent lamp ballasts. However, DOE is requesting preliminary comments on the fluorescent lamp ballast test procedure in this Framework Document.

DATES: The Department will hold a public meeting on February 6, 2008, from 9 a.m. to 4 p.m. in Washington, DC. Any person requesting to speak at the public meeting should submit such request along with a signed original and an electronic copy of the statement to be given at the public meeting before 4 p.m., January 30, 2008. Written comments on the Framework Document are welcome, especially following the public meeting, and should be submitted by March 7, 2008.

ADDRESSES: The public meeting will be held at the U.S. Department of Energy, Forrestal Building, Room 1E-245, 1000 Independence Avenue, SW., Washington, DC 20585-0121. Please note that foreign nationals participating in the public meeting are subject to advance security screening procedures. If a foreign national wishes to participate in the public meeting, please inform DOE of this fact as soon a possible by contacting Ms. Brenda Edwards at (202) 586-2945 so that the necessary procedures can be completed.

Stakeholders may submit comments, identified by docket number EERE-2007-BT-STD-0016 and/or Regulation Identifier Number (RIN) 1904-AB50, by any of the following methods:

• Federal eRulemaking Portal: http://www.regulations.gov. Follow the instructions for submitting comments.

• E-mail: Ballasts.Rulemaking@ee.doe.gov. Include EERE-2007-BT-STD-0016 and/or RIN 1904-AB50 in the subject line of the message.

• Mail: Ms. Brenda Edwards, U.S. Department of Energy, Building Technologies Program, Mailstop EE-2J, Framework Document for Fluorescent Lamp Ballasts, EERE-2007-BT-STD-0016 and/or RIN 1904-AB50, 1000 Independence Avenue, SW., Washington, DC 20585-0121. Please submit one signed paper original.

• Hand Delivery/Courier: Ms. Brenda Edwards, U.S. Department of Energy, Building Technologies Program, Sixth Floor, 950 L'Enfant Plaza, SW., Washington, DC 20024. Please submit one signed paper original.

Instructions: All submissions received must include the agency name and docket number or RIN for this rulemaking.

Docket: For access to the docket to read background documents, a copy of the transcript of the public meeting, or comments received, go to the U.S. Department of Energy, Resource Room of the Building Technologies Program, Sixth Floor, 950 L'Enfant Plaza, SW., Washington, DC 20024, (202) 586-2945, between 9 a.m. and 4 p.m., Monday through Friday, except Federal holidays. Please call Ms. Brenda Edwards first at the above telephone number for additional information regarding visiting the Resource Room.

FOR FURTHER INFORMATION CONTACT: Ms. Linda Graves, U.S. Department of Energy, Office of Energy Efficiency and Renewable Energy, Building Technologies, EE-2J, 1000 Independence Avenue, SW., Washington, DC 20585-0121. Telephone: (202) 586-8654. E-mail: Linda.Graves@ee.doe.gov.

Mr. Eric Stas or Ms. Francine Pinto, U.S. Department of Energy, Office of the General Counsel, GC-72, 1000 Independence Avenue, SW., Washington, DC 20585-0121. Telephone: (202) 586-9507. E-mail: Eric.Stas@hq.doe.gov or Francine.Pinto@hq.doe.gov.

For information on how to submit or review public comments and on how to participate in the public meeting, contact Ms. Brenda Edwards, U.S. Department of Energy, Office of Energy Efficiency and Renewable Energy, Building Technologies Program, EE-2J, 1000 Independence Avenue, SW., Washington, DC 20585-0121. Telephone (202) 586-2945. E-mail: Brenda.Edwards@ee.doe.gov.

SUPPLEMENTARY INFORMATION: The Energy Policy and Conservation Act (EPCA) of 1975, Pub. L. 94-163 (42 U.S.C. 6291-6309), established an energy conservation program for major household appliances. Additional amendments to EPCA have given DOE the authority to regulate the energy efficiency of several products, including certain fluorescent lamp ballasts—the products that are the focus of this notice. Amendments to EPCA in the National Appliance Energy Conservation Amendments of 1988 (NAECA 1988), Pub. L. 100-357, established energy conservation standards for fluorescent lamp ballasts.¹ (42 U.S.C. 6295(g)(5)) A table of the standards promulgated by NAECA 1988 can be found in Appendix A of the Framework Document. These same amendments also required that DOE: (1) Conduct two rulemaking cycles to determine whether these standards should be amended; and (2) for each rulemaking cycle, determine whether the standards in effect for fluorescent lamp ballasts should be amended so that they would be applicable to additional fluorescent lamp ballasts. (42 U.S.C. 6295(g)(7)(A)-(B))

¹ Although fluorescent lamp ballasts are typically understood to be a product used in the commercial and industrial sectors, it is the “consumer products” section of the statute which grants authority to DOE to cover and regulate this product. In the United States Code, Title 42 “The Public Health and Welfare,” Chapter 77 “Energy Conservation,” Subchapter III “Improving Energy Efficiency,” there are two parts which cluster together the group of products which DOE regulates. First, there is “Part A—Energy Conservation Program for Consumer Products Other than Automobiles” which includes a range of consumer products, some which may be classified as being used primarily in the residential sector, such as refrigerators, dishwashers and clothes washers. However, Part A also includes consumer products that might also be used primarily in the commercial sector, such as fluorescent lamps, fluorescent lamp ballasts and urinals. Second, Subchapter III has “Part A-1—Certain Industrial Equipment,” which includes products that are primarily used in the commercial and industrial sectors, such as electric motors and pumps, and packaged terminal air conditioners and heat pumps.

On September 19, 2000, DOE published a final rule in the Federal Register which completed its first rulemaking cycle to amend energy conservation standards for fluorescent lamp ballasts. 65 FR 56740. A table of the standards codified by DOE in the Code of Federal Regulations (CFR) can be found in Appendix A of the draft Framework Document under 10 CFR 430.32(m)(3).

On August 8, 2005, the Energy Policy Act of 2005 (EPACT 2005), Pub. L. 109-58, established energy conservation standards for other specified fluorescent lamp ballasts. Specifically, these standards established minimum ballast efficacy requirements for “energy saver” versions of full-wattage ballasts, such as the F34T12 ballast. (EPACT section 135(c)(2); codified at 42 U.S.C. 6295(g)(8)(A)) In a final rule published in the Federal Register on October 18, 2005, DOE codified those new fluorescent lamp ballast standards into the CFR at 10 CFR 430.32(m). 70 FR 60407. A table of the standards promulgated by EPACT 2005 can be found in Appendix A of the Framework Document under 42 U.S.C. 6295(g)(8)(A) and at 10 CFR 430.32(m)(5).

In summary, fluorescent lamp ballasts that are currently regulated under EPCA, as amended, include fluorescent lamp ballasts that are designed to operate one and two nominally 40 watt (W) and 34W 4-foot T12 medium bipin lamps (F40T12 and F34T12), two nominally 75W and 60W 8-foot T12 single pin slimline lamps (F96T12 and F96T12/ES), and two nominally 110W and 95W 8-foot T12 recessed double contact high output lamps (F96T12 and F96T12/ES) at nominal input voltages of 120 or 277 volts with an input current frequency of 60 hertz. 10 CFR 430.32(m). Ballasts that are excluded from regulation include: (1) Ballasts designed for dimming to 50 percent or less of its maximum output; (2) ballasts designed for use with two F96T12HO lamps at ambient temperatures of −20 degrees Fahrenheit (°F) or less and for use in an outdoor sign, or ballasts designed for use with two F96T12HO/ES lamps at ambient temperatures of 20 °F or less and for use in an outdoor sign; ² (3) ballasts with a power factor of less than 0.90 and designed and labeled for use only in residential building applications; and (4) replacement ballasts as defined in paragraph (m)(4)(ii).³ 10 CFR 430.32(m)(2), (m)(4), and (m)(7).

² Note that in 10 CFR 430.32(m)(7), the temperature exemption granted under EPACT 2005 is slightly different than that contained in sections (m)(2) and (m)(4). In subsection (m)(7), ballasts designed for use with two F96T12HO/ES lamps at ambient temperatures “of 20 degrees F or less” and designated for use in an outdoor sign are exempt from the standards in paragraph (m)(5). The other sections require the ballast to be for ambient temperatures of negative 20 degrees F or less.

³ The exclusion provided for replacement ballasts requires that they meet certain criteria in order to be considered a replacement ballast, such as being designed to replace an existing ballast in a previously installed luminaire and being marked “FOR REPLACEMENT USE ONLY.” This exclusion only applies to replacement ballasts manufactured on or before June 30, 2010. After that date, replacement ballasts will no longer be excluded. (10 CFR 430.32(m)(4)(ii)(A)) See Appendix A for the exact language of the exclusion for replacement ballasts.

In addition to establishing energy conservation standards for fluorescent lamp ballasts, EPCA established test procedures for fluorescent lamp ballasts which incorporate by reference American National Standards Institute (ANSI) Standard C82.2-1984, “For Fluorescent Lamp Ballasts—Methods of Measurement” (42 U.S.C. 6293(b)(5)). DOE notes that the 1984 version of ANSI Standard C82.2 internally references other testing methods for magnetic ballasts (i.e., ANSI Standard C82.1-1977, “For Lamp Ballast—Line Frequency Fluorescent Lamp Ballast”) but it does not reference testing methods for electronic ballasts, which have subsequently been developed (e.g., ANSI C82.11-2002, “For Lamp Ballasts—High Frequency Fluorescent Lamp Ballasts”). Because the lighting market is moving towards electronic ballasts, DOE intends to review and possibly amend its test procedures for fluorescent lamp ballasts in a separate (test procedure) rulemaking so as to include test procedures for electronic ballasts. However, DOE is inviting comment on its review of the fluorescent lamp ballast test procedure in the Framework Document for the energy conservation standard rulemaking.

In addition to considering amending the test procedure to include test procedures for electronic ballasts, DOE is directed to amend the fluorescent lamp ballast test procedure by the Energy Independence and Security Act of 2007 (EISA 2007) (Pub. L. 110-140) signed by the President on December 19, 2007. EISA 2007 directs DOE to amend its test procedure for fluorescent lamp ballasts to incorporate a measure of standby mode and off mode energy use by March 31, 2009 (42 U.S.C. 6295(gg)(2)(B)(ii)). In addition, pursuant to 42 U.S.C. 6295(o), DOE is directed to incorporate standby mode and off mode energy use in any amended (or new) standard adopted after July 1, 2010. Because this energy conservation standards rulemaking for fluorescent lamp ballasts will be completed in 2011, the requirement to incorporate standby mode and off mode energy use into the energy conservation standards analysis is applicable. EISA 2007 also contains a definition for “ballast” and “electronic ballast,” as well as standards for metal halide fixtures, but none of these new definitions or requirements changes the analysis DOE intends to conduct in the energy conservation standards rulemaking for fluorescent lamp ballasts.

To initiate the second rulemaking cycle to consider amended energy conservation standards for fluorescent lamp ballasts, DOE has prepared a Framework Document to explain the issues, analyses, and processes it anticipates using for the development of potential energy efficiency standards for certain fluorescent lamp ballasts. In the Framework Document, DOE also presents its initial approach for determining whether the standards should be made applicable to specific ballast types, when implementing its statutory mandate to consider additional fluorescent lamp ballasts. As noted above, DOE will hold a public meeting on February 6, 2008 in Washington DC, the main focus of which will be to discuss the analyses presented and issues identified in the Framework Document. At the public meeting, the Department will make a number of presentations, invite discussion on the rulemaking process as it applies to certain fluorescent lamp ballasts, and solicit comments, data, and information from participants and other stakeholders. DOE will also invite comment on DOE's preliminary determination regarding the scope of coverage for the fluorescent lamp ballast standard. DOE is considering expanding the scope of coverage to include additional fluorescent lamp ballasts that would be analyzed in the energy conservation standards rulemaking.

The Department encourages those who wish to participate in the public meeting to obtain the Framework Document and to be prepared to discuss its contents. A copy of the draft Framework Document is available at: http://www.eere.energy.gov/buildings/appliance_standards/residential/fluorescent_lamp_ballasts.html.

Public meeting participants need not limit their comments to the issues identified in the Framework Document. The Department is also interested in receiving views concerning other relevant issues that participants believe would affect energy conservation standards for these products, applicable test procedures, or the preliminary determination on the scope of coverage for fluorescent lamp ballasts. Furthermore, the Department welcomes all interested parties, whether or not they participate in the public meeting, to submit in writing by March 7, 2008, comments and information on matters addressed in the Framework Document and on other matters relevant to consideration of standards for fluorescent lamps ballasts.

The public meeting will be conducted in an informal, facilitated, conference style. There shall be no discussion of proprietary information, costs or prices, market shares, or other commercial matters regulated by U.S. antitrust laws. A court reporter will record the proceedings of the public meeting, after which a transcript will be made available for purchase from the court reporter.

After the public meeting and the close of the comment period on the Framework Document, DOE will begin collecting data, conducting the analyses as discussed in the Framework Document and at the public meeting, and reviewing the comments received.

DOE considers public participation to be a very important part of the process for setting energy conservation standards. DOE actively encourages the participation and interaction of the public during the comment period in each stage of the rulemaking process. Beginning with the Framework Document, and during each subsequent public meeting and comment period, interactions with and between members of the public provide a balanced discussion of the issues to assist DOE with the standards rulemaking process. Accordingly, anyone who would like to participate in the public meeting, receive meeting materials, or be added to the DOE mailing list to receive future notices and information regarding this rulemaking on fluorescent lamp ballasts, should contact Ms. Brenda Edwards at (202) 586-2945, or via e-mail at: Brenda.Edwards@ee.doe.gov.

Issued in Washington, DC, on January 14, 2008.
John F. Mizroch,
Principal Deputy Assistant Secretary, Energy Efficiency and Renewable Energy.

[FR Doc. E8-938 Filed 1-18-08; 8:45 am]

BILLING CODE 6450-01-P